DEPARTMENT OF ENERGY

Federal Energy Regulatory Commission

Combined Notice of Filings #1

Take notice that the Commission received the following electric rate filings:

Docket Numbers: ER10-2329-001.

Applicants: Vineland Energy LLC.

Description: Vineland Energy LLC submits Triennial Market Based Rate Update in the Northeast Region out of time.

Filed Date: 3/22/13.

Accession Number: 20130322-5190.

Comments Due: 5 p.m. ET 5/21/13.

Docket Numbers: ER13-823-000; ER13-823-001.

Applicants: Castleton Commodities Merchant Trading L.P.

Description: Castleton Commodities Merchant Trading L.P. submits Second Supplement to January 29, 2013 notice of succession.

Filed Date: 3/19/13.

Accession Number: 20130319-5083.

Comments Due: 5 p.m. ET 4/9/13.

Docket Numbers: ER13-1158-000.

Applicants: Midwest Independent Transmission System Operator. Inc., PJM Interconnection, L.L.C.

Description: Technical filing to restore MISO-PJM JOA Att 2 sections to the FERC Viewer to be effective 9/17/2010.

Filed Date: 3/22/13.

Accession Number: 20130322-5174.

Comments Due: 5 p.m. ET 4/12/13.

Docket Numbers: ER13-1159-000.

Applicants: National Grid Generation LLC.

Description: Amended and Restated Power Supply Agreement to be effective 5/28/2013.

Filed Date: 3/25/13.

Accession Number: 20130325-5002.

Comments Due: 5 p.m. ET 4/15/13.

Docket Numbers: ER13-1160-000.

Applicants: Pacific Gas and Electric Company.

Description: Notice of Termination of Westlands Solar Farm E&P Agreement to be effective 2/19/2013.

Filed Date: 3/25/13.

Accession Number: 20130325-5012.

Comments Due: 5 p.m. ET 4/15/13.

Docket Numbers: ER13-1161-000.

Applicants: Orange Grove Energy, L.P.

Description: Orange Grove Amended and Restated Black Start Agreement to be effective 12/31/9998.

Filed Date: 3/25/13.

Accession Number: 20130325-5040.

Comments Due: 5 p.m. ET 4/15/13.

Docket Numbers: ER13-1162-000.

Applicants: PJM Interconnection, L.L.C.

Description: PJM Interconnection, L.L.C. submits Notice of Cancellation of Wholesale Market Participation Agreement No. 2404.

Filed Date: 3/25/13.

Accession Number: 20130325-5070.

Comments Due: 5 p.m. ET 4/15/13.

Take notice that the Commission received the following open access transmission tariff filings:

Docket Numbers: OA08-111-005.

Applicants: Portland General Electric Company.

Description: Annual Informational Filing on Operational Penalty Assessments and Distributions as Required by Order Nos. 890 and 890-A of Portland General Electric.

Filed Date: 3/25/13.

Accession Number: 20130325-5068.

Comments Due: 5 p.m. ET 4/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2013.
Nathaniel J. Davis, Sr.,
Deputy Secretary.

[FR Doc. 2013-07493 Filed 3-29-13; 8:45 am]

BILLING CODE 6717-01-P